DEPARTMENT OF HEALTH AND HUMAN SERVICES

Centers for Disease Control and Prevention

[60Day-03-123]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: National Nosocomial Infections Surveillance (NNIS) System—Extension—National Center for Infectious Disease (NCID). The NNIS system, which was instituted in 1970, is an ongoing surveillance system currently involving 345 hospitals that voluntarily report their nosocomial infections data to the Centers for Disease Control and Prevention (CDC), who aggregate the data into a national database. The data are collected using surveillance protocols developed by CDC for high risk patient groups (ICU, high-risk nursery, and surgical patients). Instructional manuals, training of surveillance personnel, and a computer surveillance software are among the support that CDC provides without cost to participating hospitals to ensure the reporting of accurate and uniform data.

In the very near future this data collection will be merged with two other collections to form the National Healthcare Safety Network (NHSN). This network will be a computer-based system. Since this system will be phased in over time, CDC will need to continue using the forms within this clearance request until the transformation has been completed.

The purpose of the NNIS system is to provide national data on the incidence of nosocomial infections and their risk factors, and on emerging antibiotic resistance. The data are used to determine the magnitude of various nosocomial infection problems and trends in infection rates among patient with similar risks. They are used to detect changes in the epidemiology of nosocomial infections resulting from new medical therapies and changing patient risks. New to the NNIS system is the monitoring of antibiotic resistance and antimicrobial use in groups of patients to describe the epidemiology of antibiotic resistance and to understand the role of antimicrobial therapy to this growing problem. The NNIS system can also serve as a sentinel system for the detection of nosocomial infection outbreaks in the event of national distribution of a contaminated medical product or device.

The respondent burden is not the same in each hospital since the hospitals can select from a wide variety of surveillance options. A typical hospital will monitor patients for infections in two ICUs and surgical site infections following three surgical operations. The respondent burden includes the time and cost to collect data on nosocomial infections in patients in these groups and the denominator data to characterize risk factors in the patients who are being monitored; to enter the data as well as a surveillance plan into the surveillance software; to send the data to CDC by electronic transmission; and complete a short annual survey and administrative forms. The respondent burden is expected to increase since an estimated 10 hospitals are expected to enroll into the NNIS system each year. There is no cost to the respondent.

Year | Number of respondents | Number of responses/ respondent | Average burden/ response (in hours) | Total burden (in hours)
2003 | 345 | 1 | 925 | 319,000
2004 | 355 | 1 | 927 | 329,000
2005 | 365 | 1 | 929 | 339,000
Total |  |  |  | 987,000

Dated: September 19, 2003.
Thomas A. Bartenfeld,
Acting Associate Director for Policy, Planning and Evaluation, Centers for Disease Control and Prevention.

[FR Doc. 03-24277 Filed 9-24-03; 8:45 am]

BILLING CODE 4163-18-P